DEPARTMENT OF HOMELAND SECURITY

Expressions of Interest (EOI) for Chemical Defense Demonstration Projects

AGENCY: Office of Health Affairs, DHS.

ACTION: Notice of Expression of Interest.

SUMMARY: The Chemical Defense Program (CDP), under the Department of Homeland Security Office of Health Affairs (OHA), is seeking Expressions of Interest (EOI) from state, local, tribal, and territorial (SLTT) government agencies to participate in a chemical defense demonstration project relative to a specific venue (e.g., indoor sports stadium, outdoor port facility, convention center). These projects will assist communities in enhancing their preparedness to respond effectively and quickly to a catastrophic chemical event. Using the DHS Form 10088 (9/12) posted on https://www.dhs.gov/publication/eoi-form-cdp-demonstration-project, interested SLTT governmental agencies must submit the completed and signed form to the DHS OHA CDP.

DATES: Submit the completed and signed DHS Form 10088 (9/12), either electronically or in hard copy, no later than 45 days from the date of the Federal Register Notice.

ADDRESSES: Submissions of DHS Form 10088 (9/12) shall go to the following:

Hardcopy signed original document to Captain Joselito Ignacio Deputy Program Director, Chemical Defense Program Department of Homeland Security/Office of Health Affairs, 245 Murray Lane SW., Mail Stop: 0315 Washington, DC 20528; or Electronically to Joselito.Ignacio@hq.dhs.gov.

FOR FURTHER INFORMATION CONTACT: CAPTAIN JOSELITO IGNACIO, 202-254-5738 OR joselito.ignacio@hq.dhs.gov.

SUPPLEMENTARY INFORMATION: The demonstration projects are based on appropriations found in Public Law 112-74 (Consolidated Appropriations Act, 2012) and Public Law 133-6 (“The Consolidated and Further Continuing Appropriations Act, 2013”), which call for the Chemical Defense Program of DHS OHA to conduct a competitive selection of locations and venues to participate in chemical detection demonstration projects. The DHS OHA CDP will initiate, fund and manage the demonstration projects, but in close coordination with the selected SLTT government agencies and venue operators. The demonstration project will result in, among other things: (a) A review of current community preparedness capabilities as well as gaps protecting from and responding to a catastrophic chemical incident; (b) community and venue-specific risk assessments, based on likely scenarios, to provide information on chemical threats; (c) technology alignment to include review of existing or intended detect-to-warn or detect-to-treat capabilities in communities; (d) optimizing the communities' response system through decision analysis and the development of a concept of operations plan that defines common mission, roles, responsibilities and key actions necessary for responding to these events; and (e) exercise evaluation using the Homeland Security Exercise and Evaluation Program (HSEEP) process. Through successful completion of these demonstration projects, the selected communities will have enhanced preparedness of their emergency management, first responder, and first receiver groups with the knowledge, skills and tools to act swiftly and competently in protecting lives and restoring peace of mind in response to a catastrophic chemical incident.

As stated, DHS will conduct a competitive selection. A DHS selection panel, led by the DHS OHA CDP, will carefully review the completed and signed DHS Form 10088 (9/12) and rate each submission using weighted criteria on the basis of (a) chemical threat risk (which the DHS Chemical Terrorism Risk Assessments and SLTT government agencies' input will inform); (b) community interest to host a demonstration project; and (c) reasons given for desiring a demonstration project hosted in this community and specific venue. Numerically sequenced from high to low values, top tiered communities are then selected to have these projects conducted in their locations. All communities will receive notification of the selection results. Once selected, DHS OHA CDP will enter into a Memorandum of Agreement with the selected SLTT government agencies to clarify roles and responsibilities.

Selected SLTT government agencies must work cooperatively with DHS OHA CDP with all phases of the demonstration project. Expected activities include (a) participation in all planning meetings on site or via teleconference; (b) establish formal relationships with selected venues' owners and operators in order for DHS OHA CDP or its designated performers to have access to all outdoor and indoor spaces; (c) review and provide technical input on any developed guidance documents and plans by DHS OHA CDP or its performers within assigned deadlines and (e) serve as a community conduit with key stakeholders within the selected cities in order to gain input in the demonstration projects (e.g. emergency medical services, fire/hazmat, hospitals, public health). There are no funds given to the selected SLTT government agencies or venues as part of these demonstration projects, including funds for purchase of equipment.

Authority: Pub. L. 112-74, Pub. L. 133-6.

Dated: September 25, 2013.
Mark A. Kirk,
Director, Chemical Defense Program.

[FR Doc. 2013-23984 Filed 10-1-13; 8:45 am]

BILLING CODE 9110-9K-P